DEPARTMENT OF ENERGY

Federal Energy Regulatory Commission

Combined Notice of Filings #1

Take notice that the Commission received the following electric corporate filings:

Docket Numbers: EC14-14-000.

Applicants: NRG Energy Holdings, Inc., Edison Mission Energy.

Description: Errata to October 25, 2013 Joint Application of NRG Energy Holdings Inc. et. al. for Approval of Transaction under Section 203 of the Federal Power Act.

Filed Date: 10/28/13.

Accession Number: 20131028-5082.

Comments Due: 5 p.m. ET 12/9/13.

Docket Numbers: EC14-18-000.

Applicants: Discount Energy Group, LLC, Town Square Energy, LLC.

Description: Application for Authorization under Section 203 of the FPA of Discount Energy Group, LLC, et al.

Filed Date: 10/29/13.

Accession Number: 20131029-5146.

Comments Due: 5 p.m. ET 11/19/13.

Take notice that the Commission received the following exempt wholesale generator filings:

Docket Numbers: EG14-12-000.

Applicants: Lakeswind Power Partners, LLC.

Description: Notice of Self-Certification as an Exempt Wholesale Generator of Lakeswind Power Partners, LLC.

Filed Date: 10/30/13.

Accession Number: 20131030-5049.

Comments Due: 5 p.m. ET 11/20/13.

Take notice that the Commission received the following electric rate filings:

Docket Numbers: ER10-2839-003.

Applicants: Midland Cogeneration Venture Limited Partnership.

Description: Notice of Non-Material Change in Status of Midland Cogeneration Venture Limited Partnership.

Filed Date: 10/30/13.

Accession Number: 20131030-5117.

Comments Due: 5 p.m. ET 11/20/13.

Docket Numbers: ER12-1179-010.

Applicants: Southwest Power Pool, Inc.

Description: Revised Offer of Settlement Resolving Treatment of Grandfathered Agreements in SPP's Integrated Marketplace of Southwest Power Pool, Inc.

Filed Date: 10/30/13.

Accession Number: 20131030-5095.

Comments Due: 5 p.m. ET 11/20/13.

Docket Numbers: ER13-2078-001.

Applicants: Southwest Power Pool, Inc.

Description: Southwest Power Pool, Inc. submits Grandfather Agreements Carve Out Compliance to be effective 3/1/2014.

Filed Date: 10/30/13.

Accession Number: 20131030-5068.

Comments Due: 5 p.m. ET 11/20/13.

Docket Numbers: ER13-2114-001.

Applicants: Virginia Electric and Power Company.

Description: Virginia Electric and Power Company submits Compliance Filing—Amendment to Pending Compl Filing of 080613 to be effective 10/31/2013.

Filed Date: 10/30/13.

Accession Number: 20131030-5098.

Comments Due: 5 p.m. ET 11/20/13.

Docket Numbers: ER14-170-001.

Applicants: Midcontinent Independent System Operator Inc.

Description: Midcontinent Independent System Operator, Inc. submits 10-30-2013 Attachment C Errata Filing to be effective 12/22/2013.

Filed Date: 10/30/13.

Accession Number: 20131030-5124.

Comments Due: 5 p.m. ET 11/20/13.

Docket Numbers: ER14-222-000.

Applicants: Southern California Edison Company.

Description: Southern California Edison Company submits 2014 RSBAA Update Filing to be effective 1/1/2014.

Filed Date: 10/30/13.

Accession Number: 20131030-5055.

Comments Due: 5 p.m. ET 11/20/13.

Docket Numbers: ER14-223-000.

Applicants: Southwest Power Pool, Inc.

Description: Southwest Power Pool, Inc. submits 1630R4 The Empire District Electric Company NITSA and NOA to be effective 10/1/2013.

Filed Date: 10/30/13.

Accession Number: 20131030-5059.

Comments Due: 5 p.m. ET 11/20/13.

Docket Numbers: ER14-224-000.

Applicants: Southwest Power Pool, Inc.

Description: Southwest Power Pool, Inc. submits 2626 Transource Missouri, KCP&L, KCP&L GMO Novation to be effective 10/30/2013.

Filed Date: 10/30/13.

Accession Number: 20131030-5062.

Comments Due: 5 p.m. ET 11/20/13.

Docket Numbers: ER14-225-000.

Applicants: New Brunswick Energy Marketing Corporation.

Description: New Brunswick Energy Marketing Corporation submits Notice of Succession to be effective 10/1/2013.

Filed Date: 10/30/13.

Accession Number: 20131030-5072.

Comments Due: 5 p.m. ET 11/20/13.

Docket Numbers: ER14-225-001.

Applicants: New Brunswick Energy Marketing Corporation.

Description: Notice of Non-Material Change in Status of New Brunswick Energy Marketing Corporation.

Filed Date: 10/30/13.

Accession Number: 20131030-5100.

Comments Due: 5 p.m. ET 11/20/13.

Docket Numbers: ER14-226-000.

Applicants: Southern California Edison Company.

Description: Southern California Edison Company submits Notices of Cancellation with Samsung C&T America, Inc. to be effective 12/30/2013.

Filed Date: 10/30/13.

Accession Number: 20131030-5087.

Comments Due: 5 p.m. ET 11/20/13.

Docket Numbers: ER14-227-000.

Applicants: Southern California Edison Company.

Description: Southern California Edison Company submits SCE 2014 Update ETC Reliability Services Rate to be effective 1/1/2014.

Filed Date: 10/30/13.

Accession Number: 20131030-5089.

Comments Due: 5 p.m. ET 11/20/13.

Docket Numbers: ER14-228-000.

Applicants: Southwest Power Pool, Inc.

Description: Southwest Power Pool, Inc. submits Sunflower Electric Power Corporation Formula Rate to be effective 1/1/2014.

Filed Date: 10/30/13.

Accession Number: 20131030-5091

Comments Due: 5 p.m. ET 11/20/13.

Docket Numbers: ER14-229-000.

Applicants: Southwest Power Pool, Inc.

Description: Southwest Power Pool, Inc. submits 2213R2 Cimarron Windpower II, LLC GIA to be effective 10/7/2013.

Filed Date: 10/30/13.

Accession Number: 20131030-5110.

Comments Due: 5 p.m. ET 11/20/13.

Docket Numbers: ER14-230-000.

Applicants: Covanta Haverhill Associates, LP.

Description: Notice of Cancellation of Rate Schedule FERC No. 1 and Supplement No. 1 of Covanta Haverhill Associates, LP.

Filed Date: 10/30/13.

Accession Number: 20131030-5112.

Comments Due: 5 p.m. ET 11/20/13.

Docket Numbers: ER14-231-000.

Applicants: California Power Exchange Corporation.

Description: California Power Exchange Corporation submits Rate Filing for Rate Period 24 to be effective 1/1/2014.

Filed Date: 10/30/13.

Accession Number: 20131030-5127.

Comments Due: 5 p.m. ET 11/20/13.

Docket Numbers: ER14-232-000.

Applicants: Midcontinent Independent System Operator, Inc.

Description: Midcontinent Independent System Operator, Inc. submits 10-30-2013 SA 2549 DTE Electric-ITC E&P to be effective 10/31/2013.

Filed Date: 10/30/13.

Accession Number: 20131030-5128.

Comments Due: 5 p.m. ET 11/20/13.

Take notice that the Commission received the following land acquisition reports:

Docket Numbers: LA13-3-000.

Applicants: Bishop Hill Energy II LLC, Cordova Energy Company LLC, MidAmerican Energy Company, Saranac Power Partners, L.P.

Description: Quarterly Land Acquisition Report of the MidAmerican Parties.

Filed Date: 10/30/13.

Accession Number: 20131030-5057.

Comments Due: 5 p.m. ET 11/20/13.

Docket Numbers: LA13-3-000.

Applicants: Astoria Generating Company, L.P.

Description: Quarterly Land Acquisition Report of Astoria Generating Company, L.P.

Filed Date: 10/30/13.

Accession Number: 20131030-5058.

Comments Due: 5 p.m. ET 11/20/13.

Docket Numbers: LA13-3-000.

Applicants: Cedar Creek II, LLC, Copper Mountain Solar 1, LLC, Copper Mountain Solar 2, LLC, Energia Sierra Juarez U.S., LLC, Flat Ridge 2 Wind Energy LLC, Fowler Ridge II Wind Farm LLC, Mehoopany Wind Energy LLC, Mesquite Power, LLC, Mesquite Solar 1, LLC, San Diego Gas & Electric Company, Sempra Generation, Termoelectrica U.S., LLC.

Description: Quarterly Land Acquisition Report of Sempra Generation, et. al.

Filed Date: 10/30/13.

Accession Number: 20131030-5102.

Comments Due: 5 p.m. ET 11/20/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 30, 2013.
Nathaniel J. Davis, Sr.,
Deputy Secretary.

[FR Doc. 2013-26735 Filed 11-7-13; 8:45 am]

BILLING CODE 6717-01-P